INTERNATIONAL TRADE COMMISSION

[Investigation No. 337-TA-1480]

Certain Wireless Communication Devices and Components Thereof; Notice of Institution of Investigation

AGENCY: U.S. International Trade Commission.

ACTION: Notice.

SUMMARY: Notice is hereby given that a complaint was filed with the U.S. International Trade Commission on December 16, 2025, under section 337 of the Tariff Act of 1930, as amended, on behalf of Active Wireless Technologies LLC of Marshall, Texas. The complaint was supplemented by letter on January 5, 2026. The complaint, as supplemented, alleges violations of section 337 based upon the importation into the United States, the sale for importation, and the sale within the United States after importation of certain wireless communication devices and components thereof by reason of the infringement of certain claims of U.S. Patent No. 10,531,443 (“the '443 patent”); U.S. Patent No. 10,601,566 (“the '566 patent”); U.S. Patent No. 10,785,764 (“the '764 patent”); U.S. Patent No. 10,805,955 (“the '955 patent”); U.S. Patent No. 10,855,432 (“the '432 patent”); and U.S. Patent No. 11,019,557 (“the '557 patent”). The complaint, as supplemented, further alleges that an industry in the United States exists as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Susan Orndoff, The Office of the Secretary, Docket Services Division, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2025).

Scope of Investigation: Having considered the complaint, the U.S. International Trade Commission, on January 15, 2026, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 2, and 4 of the '443 patent; claims 1-7, and 15 of the '566 patent; claims 1, 2, and 5 of the '764 patent; claims 1, 2, and 5 of the '955 patent; claims 1-3 and 7-9 of the '432 patent; and claims 1-8 of the '557 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “mobile phones and tablet computers with wireless communication, and components thereof”;

(3) For the purpose of the investigation so instituted, the following are hereby named as parties upon which this notice of investigation shall be served:

(a) The complainant is: Active Wireless Technologies LLC, 104 East Houston Street, Suite 140, Marshall, TX 75670.

(b) The respondents are the following entities alleged to be in violation of section 337, and are the parties upon which the complaint is to be served:

BLU Products, Inc., 8600 NW 36th Street, Suite 300, Doral, FL 33166

Coosea USA Technologies, Inc., 5850 Oberlin Drive, Suite 240, San Diego, CA 92121.

DISH Wireless LLC, 9601 South Meridian Boulevard, Englewood, CO 80112

EchoStar Corporation, 9601 South Meridian Boulevard, Englewood, CO 80112

HTC Corporation, No. 88, Section 3, Zhongxing Road, Xindian, District, New Taipei City 231, Taiwan

LG Electronics Inc., LG Twin Towers, 128 Yeoui-daero, Yeongdeungpo-gu, Seoul, Republic of Korea, 07736

OnePlus Technology (Shenzhen) Co., Ltd., 18C02, 18C03, 18C04, and 18C05, Shum Yip, Terra Building, Binhe Avenue North, Futian, District, Shenzhen, Guangdong, China

Qualcomm Technologies, Inc., 5775 Morehouse Drive, San Diego, CA 92121

TCL Communication Ltd., 5/F, Building 22E, 22 Science Park East Avenue, Hong Kong Science Park, Shatin, New Territories, Hong Kong

TTE Technology, Inc. d/b/a TCL North America, 189 Technology Dr., Irvine, CA 92618

TCL Technology Group Corporation, TCL TECH. Building, 17 Huifeng Third Road, Zhongkai Hi-tech Development District, Huizhou City, Guangdong Province, China

T-Mobile USA, Inc., 12920 SE 38th St., Bellevue, WA 98006

(4) For the investigation so instituted, the Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: January 15, 2026.
Lisa Barton,
Secretary to the Commission.

[FR Doc. 2026-01031 Filed 1-20-26; 8:45 am]

BILLING CODE 7020-02-P